NATIONAL CREDIT UNION ADMINISTRATION

Agency Information Collection Activities: Submission to OMB for Review; Comment Request

AGENCY: National Credit Union Administration (NCUA).

ACTION: Request for comment.

SUMMARY: The NCUA submitted the following information collection to the Office of Management and Budget (OMB) for review and clearance under the Paperwork Reduction Act of 1995 (Pub. L. 104-13, 44 U.S.C. chapter 35) (PRA). The original submission was made in connection with proposed amendments to the agency's rule governing corporate credit unions (12 CFR part 704), as approved by the NCUA Board in November, 2009 and published in the Federal Register on December 9, 2009 (74 FR 65210). In view of changes made in the final rule that affect (by reducing) the original burden estimates, as described below, OMB has requested that the agency provide another opportunity for public comment.

DATES: Comments will be accepted until November 15, 2010.

ADDRESSES: Interested parties are invited to submit written comments to the National Credit Union Administration, Office of the Chief Information Officer as listed below: Tracy Crews, National Credit Union Administration, 1775 Duke Street, Alexandria, VA 22314-3428, Fax No. 703-837-2861, E-mail: OCIOmail@ncua.gov.

FOR FURTHER INFORMATION CONTACT: Requests for additional information or a copy of the information collection request should be directed to Tracy Crews at the National Credit Union Administration, 1775 Duke Street, Alexandria, VA 22314-3428, or at (703) 518-6444. Copies of the final rule, as approved by the NCUA Board at its September 24 Board meeting, are available on the agency's Web site, http://www.NCUA.gov.

SUPPLEMENTARY INFORMATION: Proposal for the following collection of information:

OMB Number: 3133-0129.

Form Number: None.

Type of Review: Revision of a previously approved collection.

Title: Corporate Credit Unions.

Description: Part 704 of NCUA's Rules and Regulations imposes certain information collection obligations on corporate credit unions concerning their activities. As described in the preamble to the proposed rule, information collection requirements, within the meaning of the PRA, are included in the following aspects of the rule: With respect to capital and prompt corrective action requirements, the new rule creates several new capital standards and requirements, which have the potential to increase the likelihood of having to prepare a capital restoration plan, or modify an existing plan. Beginning three years after the effective date of the rule, some corporates may be required to develop and submit a retained earnings accumulation plan. The rule generally requires a corporate to obtain NCUA's prior approval before permitting the early redemption of contributed capital, and the rule imposes notice requirements in the event changes occur that cause the corporate to be placed in a lower capital category, within the prompt corrective action realm. The rule also imposes new requirements concerning the use of nationally recognized statistical rating agencies, which may have the effect of triggering new or modified investment action plans. In terms of asset-liability management, two cash flow mismatch tests that had been proposed have been eliminated from the final rule, but testing for weighted average life limits remains, including a new test with a 2.25 year weighted average life limit that assumes a 50 percent slowdown in prepayment speeds to limit extension risk. The rule imposes new requirements concerning obtaining approval for proposed CUSO activities, and the rule also imposes new disclosure requirements concerning senior executive compensation, although the scope of the disclosure obligations under the final rule has been scaled back from the proposal.

Respondents: All federally insured corporate credit unions.

Estimated No. of Respondents/Record keepers: 27.

Estimated Burden Hours per Response: 3,887 hours, estimated as follows:

Capital restoration plans: 20 corporates × 50 hours = 1,000 hours.

Retained earnings accumulation Plans: 3 corporates × 50 hours = 150 hours.

Notice of intent to redeem contributed capital: 10 corporates × 1 hour = 10 hours.

Notice of PCA category change: 10 corporates × 1 hour = 10 hours.

Ratings procurement: 27 corporates × 2 hours = 54 hours.

Investment action plans: 10 corporates × 20 hours = 200 hours.

ALM testing: 27 corporates × 84 hours = 2,268 hours.

CUSO approval requests: 12 corporates × 2 hours = 24 hours.

Compensation disclosures: 27 corporates × 5 hours = 135 hours.

Merger related disclosures: 4 corporates × 5 hours = 20 hours.

Requests to make golden parachute and severance payments: 4 corporates × 4 hours = 16 hours.

Frequency of Response: Reporting, recordkeeping, on occasion, monthly, quarterly and annually.

Estimated Total Annual Burden Hours: 69,605 hours—revised based on revised estimate of burden hours.

Estimated Annual Cost: (Unchanged from initial estimate of $8,500 per corporate.)

By the National Credit Union Administration Board on October 12, 2010.
Mary Rupp,
Secretary of the Board.

[FR Doc. 2010-26058 Filed 10-14-10; 8:45 am]

BILLING CODE 7535-01-P